DEPARTMENT OF THE INTERIOR

Bureau of Land Management

[ID-075-2822-JL-F9947]

Notice of Closure; Bannock County, ID

AGENCY: Bureau of Land Management, Interior

ACTION: Notice of Closure to Off-Highway Vehicle and recreation Use on public lands in Bannock County, Idaho.

SUMMARY: With the publication of this notice, all public lands administered by the Bureau of Land Management within the 2,234 acres of the Blackrock Fire (F947), including designated roads and trails are closed to all motorized vehicles, mountain biking, camping, horseback riding and other recreational activities. The closure will remain in effect until July 15, 2006 or until such time as the authorized officer of the Pocatello Field Office determines the closure may be lifted.

Exceptions to this Order are Granted to the Following: Law enforcement patrol, emergency services, and administratively approved access for actions such as monitoring, research studies, and access to private lands.

Other actions would be considered on a case-by-case basis by the authorized officer.

FOR FURTHER INFORMATION CONTACT: Philip Damon, (208) 467-6340, the BLM Pocatello Filed Office, 1111 North 8th Ave., Pocatello, ID 83201.

SUPPLEMENTARY INFORMATION: This closure is a direct result of the Blackrook Fire, which burned this area in July, 2003 and of the subsequent rehabilitation efforts of the BLM. The closure will promote the reestablishment of vegetation, improve the potential for recovery of wildlife habitat, and reduce the potential for erosion and noxious weed invasion.

The closure is in accordance with 43 CFR 9268.3(d)(1). Violation of this order is punishable by a fine not to exceed $1,000.00 and/or imprisonment not to exceed 12 months.

The area of closure and impoundment affected by this notice is the burned portion of public lands administered by the BLM, specially described wholly or partially:

Boise Meridian:

T. 7 S., R. 35 E., Sec. 11, 12, 13, 14, and

T. 7 S., R 36 E., Sec. 7, 8, 17, 18, 19, 20.

Detailed maps of the area closed to OHV and recreational use are available at the Pocatello Field Office at the address above.

Dated: August 26, 2003.
Philip Damon,
Pocatello Field Manager.

[FR Doc. 03-25614 Filed 10-8-03; 8:45 am]

BILLING CODE 4310-GG-P